DEPARTMENT OF ENERGY

Orders Granting Authority To Import and Export Natural Gas, To Import and Export Liquefied Natural Gas, and Granting Rehearing During October 2012

| FE Docket Nos.
SABINE PASS LIQUEFACTION, LLC | 10-111-LNG
GULF COAST LNG EXPORT, LLC | 12-05-LNG
THE DOW CHEMICAL COMPANY | 12-76-LNG
BOISE WHITE PAPER | 12-84-NG
IMPERIAL IRRIGATION DISTRICT | 12-87-NG
TRANSCANADA PIPELINES LIMITED | 12-90-NG
TRANSCANADA PIPELINES LIMITED | 12-91-NG
TRANSCANADA PIPELINES LIMITED | 12-92-NG
CHENIERE MARKETING, LLC | 12-99-LNG
PETROCHINA INTERNATIONAL (CANADA) TRADING LTD | 12-104-NG
PEMEX GAS Y PETROQUIMICA BASICA | 12-110-NG
NORTH WESTERN CORPORATION d/b/a NORTHWESTERN ENERGY | 12-111-NG
REGENT RESOURCES LTD | 12-112-NG
FREEPORT LNG EXPANSION, L.P | 12-115-LNG
UNITED STATES GYPSUM COMPANY | 12-116-NG
TRANSCANADA GAS STORAGE USA, INC | 12-117-NG
TERMOELECTRICA DE MEXICALI, S. DE R.L. DE C.V | 12-120-NG
FORTUNA (US) L.P | 12-121-NG
UGI ENERGY SERVICES INC | 12-122-NG
FAMILY ENERGY INC | 12-124-NG
GLACIAL NATURAL GAS, INC | 12-125-NG
YANKEE GAS SERVICES COMPANY | 12-129-NG
NATIONAL FUEL GAS DISTRIBUTION CORPORATION | 12-130-NG
CENTRAL HUDSON GAS & ELECTRIC | 12-131-NG
NORTHERN UTILITIES, INC | 12-132-NG
CONNECTICUT NATURAL GAS CORPORATION | 12-133-NG
THE SOUTHERN CONNECTICUT GAS COMPANY | 12-134-NG
ENERGYNORTH NATURAL GAS, INC. d/b/a LIBERTY UTILITIES | 12-135-NG
BAY STATE GAS COMPANY d/b/a COLUMBIA GAS OF MASSACHUSETTS | 12-136-NG
BOSTON GAS COMPANY | 12-137-NG
THE BROOKLYN UNION GAS COMPANY d/b/a NATIONAL GRID | 12-138-NG
COLONIAL GAS COMPANY d/b/a NATIONAL GRID | 12-139-NG
KEYSPAN GAS EAST CORPORATION d/b/a NATIONAL GRID | 12-140-NG
THE NARRANGANSETT ELECTRIC COMPANY d/b/a NATIONAL GRID | 12-141-NG
NIAGARA MOHAWK POWER CORPORATION d/b/a NATIONAL GRID | 12-142-NG
ALBERTA NORTHEAST GAS, LIMITED | 12-143-NG
NORTHEAST GAS MARKETS LLC | 12-144-NG
MC GLOBAL GAS CORPORATION | 12-150-NG

AGENCY: Office of Fossil Energy, Department of Energy (DOE).

ACTION: Notice of orders.

SUMMARY: The Office of Fossil Energy (FE) of the Department of Energy gives notice that during October 2012, it issued orders granting authority to import and export natural gas and liquefied natural gas. These orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on January 15, 2013.
John A. Anderson,
Manager, Natural Gas Regulatory Activities, Office of Oil and Gas Global Security and Supply, Office of Fossil Energy.

Appendix—DOE/FE Orders Granting Import/Export Authorizations

Order No. | Date issued | FE Docket No. | Authorization holder | Description of action
3148 | 10/04/12 | 12-84-NG | Boise White Paper L.L.C | Order granting blanket authority to import natural gas from Canada.
3149 | 10/04/12 | 12-87-NG | Imperial Irrigation District | Order granting blanket authority to import/export natural gas from/to Mexico.
3150 | 10/04/12 | 12-90-NG | TransCanada PipeLines Limited | Order granting blanket authority to import/export natural gas from/to Canada.
3151 | 10/04/12 | 12-91-NG | TransCanada PipeLines Limited | Order granting blanket authority to import/export natural gas from/to Canada.
3152 | 10/04/12 | 12-92-NG | TransCanada PipeLines Limited | Order granting blanket authority to import/export natural gas from/to Canada.
3153 | 10/04/12 | 12-104-NG | PetroChina International (Canada) Trading Ltd | Order granting blanket authority to import/export natural gas from/to Canada.
3154 | 10/04/12 | 12-110-NG | Pemex Gas y Petroquimica Basica | Order granting blanket authority to import/export natural gas from/to Canada/Mexico, and to import LNG from various international sources by vessel.
3155 | 10/04/12 | 12-111-NG | NorthWestern Corporation d/b/a NorthWestern Energy | Order granting blanket authority to import/export natural gas from/to Canada.
3156 | 10/04/12 | 12-112-NG | Regent Resources Ltd | Order granting blanket authority to import natural gas from Canada.
3157 | 10/05/12 | 12-116-NG | United States Gypsum Company | Order granting blanket authority to import natural gas from Canada.
3158 | 10/05/12 | 12-117-NG | TransCanada Gas Storage USA, Inc | Order granting blanket authority to import/export natural gas from/to Canada/Mexico.
3159 | 10/05/12 | 12-120-NG | Termoelectrica de Mexicali, S. de R.L. de C.V | Order granting blanket authority to import/export natural gas from/to Mexico.
3160 | 10/05/12 | 12-121-NG | Fortuna (US) L.P | Order granting blanket authority to import/export natural gas from/to Canada.
3161 | 10/05/12 | 12-122-NG | UGI Energy Services, Inc | Order granting blanket authority to import natural gas from Canada.
N/A | 10/05/12 | 10-111-LNG | Sabine Pass Liquefaction, LLC | Order granting rehearing for further consideration.
3162 | 10/11/12 | 12-76-LNG | The Dow Chemical Company | Order granting blanket authority to export previously imported LNG by vessel.
3163 | 10/16/12 | 12-05-LNG | Gulf Coast LNG Export, LLC | Order granting long-term multi-contract authority to export LNG by vessel from proposed Brownsville Terminal to free trade agreement nations.
3164 | 10/16/12 | 12-99-LNG | Cheniere Marketing, LLC | Order granting long-term multi-contract authority to export LNG by vessel from proposed Corpus Christi Liquefaction Project to free trade agreement nations.
3165 | 10/18/12 | 12-115-LNG | Freeport LNG Expansion, L.P | Order granting blanket authority to export LNG by vessel to Canada/Mexico.
3166 | 10/18/12 | 12-124-NG | Family Energy Inc | Order granting blanket authority to import natural gas from Canada.
3167 | 10/18/12 | 12-133-NG | Connecticut Natural Gas Corporation | Order granting blanket authority to import/export natural gas from/to Canada.
3168 | 10/18/12 | 12-134-NG | The Southern Connecticut Gas Company | Order granting blanket authority to import/export natural gas from/to Canada.
3169 | 10/18/12 | 12-135-NG | EnergyNorth Natural Gas, Inc. d/b/a Liberty Utilities | Order granting blanket authority to import/export natural gas from/to Canada.
3170 | 10/18/12 | 12-136-NG | Bay State Gas company d/b/a Columbia Gas of Massachusetts | Order granting blanket authority to import/export natural gas from/to Canada.
3171 | 10/18/12 | 12-137-NG | Boston Gas Company | Order granting blanket authority to import/export natural gas from/to Canada.
3172 | 10/18/12 | 12-138-NG | The Brooklyn Union Gas Company d/b/a National Grid NY | Order granting blanket authority to import/export natural gas from/to Canada.
3173 | 10/18/12 | 12-139-NG | Colonial Gas Company d/b/a National Grid | Order granting blanket authority to import/export natural gas from/to Canada.
3174 | 10/18/12 | 12-140-NG | Keyspan Gas East Corporation d/b/a National Grid | Order granting blanket authority to import/export natural gas from/to Canada.
3175 | 10/18/12 | 12-141-NG | The Narragansett Electric Company d/b/a National Grid | Order granting blanket authority to import/export natural gas from/to Canada.
3176 | 10/18/12 | 12-142-NG | Niagara Mohawk Power Corporation d/b/a National Grid | Order granting blanket authority to import/export natural gas from/to Canada.
3177 | 10/18/12 | 12-143-NG | Alberta Northeast Gas, Limited | Order granting blanket authority to import/export natural gas from/to Canada.
3178 | 10/18/12 | 12-144-NG | Northeast Gas Markets LLC | Order granting blanket authority to import/export natural gas from/to Canada.
3179 | 10/24/12 | 12-125-NG | Glacial Natural Gas, Inc | Order granting blanket authority to import natural gas from Canada.
3180 | 10/24/12 | 12-129-NG | Yankee Gas Services Company | Order granting blanket authority to import/export natural gas from/to Canada.
3181 | 10/24/12 | 12-130-NG | National Fuel Gas Distribution Corporation | Order granting blanket authority to import/export natural gas from/to Canada.
3182 | 10/24/12 | 12-131-NG | Central Hudson Gas & Electric Corporation | Order granting blanket authority to import/export natural gas from/to Canada.
3183 | 10/24/12 | 12-132-NG | Northern Utilities, Inc | Order granting blanket authority to import/export natural gas from/to Canada.
3184 | 10/24/12 | 12-150-LNG | MC Global Gas Corporation | Order granting blanket authority to import LNG from various international sources by vessel.

[FR Doc. 2013-01140 Filed 1-18-13; 8:45 am]

BILLING CODE 6450-01-P